FEDERAL COMMUNICATIONS COMMISSION

47 CFR Part 1

[MD Docket No. 20-64; FCC 20-172; FRS 17357]

Closure of FCC Lockbox 979089 Used To File Fees for Services Provided by the Media Bureau

AGENCY: Federal Communications Commission.

ACTION: Final rule.

SUMMARY: In this document, the Federal Communications Commission (FCC or Commission) adopts an Order that closes Lockbox 979089 and modifies the relevant rule provisions to require electronic filing and fee payments.

DATES: Effective March 26, 2021.

FOR FURTHER INFORMATION CONTACT: Warren Firschein, Office of Managing Director at (202) 418-2653 or Roland Helvajian, Office of Managing Director at (202) 418-0444.

SUPPLEMENTARY INFORMATION: This is a summary of the Commission's Order, FCC 20-172, MD Docket No. 20-64, adopted on December 7, 2020 and released on December 10, 2020, which is the subject of this rulemaking. The full text of this document is available for public inspection and copying by downloading the text from the Commission's website at https://www.fcc.gov/document/closure-lockbox-used-collect-fee-payments-media-bureau.

I. Procedural Matters

A. Final Regulatory Flexibility Analysis

1. Section 603 of the Regulatory Flexibility Act, as amended, requires a regulatory flexibility analysis in notice and comment rulemaking proceedings. See 5 U.S.C. 603(a). As we are adopting these rules without notice and comment, no regulatory flexibility analysis is required.

B. Final Paperwork Reduction Act of 1995 Analysis

2. This document does not contain new or modified information collection requirements subject to the Paperwork Reduction Act of 1995 (PRA), Public Law 104-13. In addition, therefore, it does not contain any new or modified information collection burden for small business concerns with fewer than 25 employees, pursuant to the Small Business Paperwork Relief Act of 2002, Public Law 107-198, see 44 U.S.C. 3506(c)(4).

C. Congressional Review Act

3. The Commission will not send a copy of the Order pursuant to the Congressional Review Act, see 5 U.S.C. 801(a)(1)(A), because the adopted rules are rules of agency organization, procedure, or practice that do not “substantially affect the rights or obligations of non-agency parties. See 5 U.S.C. 804(3)(C).

II. Introduction

4. In the Order, we reduce expenditures by the Commission and modernize procedures by amending § 1.1104 of our rules, 47 CFR 1.1104, which sets forth the application fees for services administered by the FCC's Media Bureau (MB). The rule amendment reflects the closure of the lockbox (P.O. Box) ¹ used for such manual payment of filing fees for nine types of IB services: (1) Commercial TV Services; (2) Commercial AM Radio Stations; (3) Commercial FM Radio Stations; (4) FM Translators; (5) TV Translators and LPTV Stations; (6) FM Booster Stations; (7) TV Booster Stations; (8) Class A TV Services; and (9) Cable Television Services. We discontinue the option of manual fee payments and instead require the use of an electronic payment for each service listed above.

¹ A P.O. Box used for the collection of fees is referred to as a “lockbox” in our rules and other Commission documents. The FCC collects application processing fees using a series of P.O. Boxes located at U.S. Bank in St. Louis, Missouri. See 47 CFR 1.1101-1.1109 (setting forth the fee schedule for each type of application remittable to the Commission along with the correct lockbox).

5. Section 1.1104 of the Commission's rules, 47 CFR 1.1104, provides a schedule of application fees for proceedings handled by MB. The rule had also directed filers that do not utilize the Commission's on-line filing and fee payment systems to send manual payments to P.O. Box 979089 at U.S. Bank in St. Louis, Missouri. In recent years, there have been a decreasing number of lockbox filers, and it now is rare that the Commission receives a lockbox payment.

6. The Commission has begun to reduce its reliance on P.O. Boxes for the collection of fees, instead encouraging the use of electronic payment systems for all application and regulatory fees and closing certain lockboxes. We find that electronic payment of fees for the services processed by MB reduces the agency's expenditures (including eliminating the annual fee for the bank's services) and the cost of manually processing each transaction, with little or no inconvenience to the Commission's regulatees, applicants, and the public.

7. As part of this effort, we are now closing P.O. Box 979089 and modifying the relevant rule provision that requires payment of fees via the closed P.O. Box. The rules changes are contained in the Appendix of the Order and the Final Rules of this document. We make these changes without notice and comment because they are rules of agency organization, procedure, or practice exempt from the general notice-and-comment requirements of the Administrative Procedure Act, see 5 U.S.C. 553(b)(A).

8. Implementation. As a temporary transition measure, for 90 days after publication of this document in the Federal Register, U.S. Bank will continue to process payments to P.O. Box 979089. After that date, payments for these MB services must be made in accordance with the procedures set forth on the Commission's website, https://www.fcc.gov/licensing-databases/fees/application-processing-fees (Media Bureau Fee Filing Guide). For now, such payments will be made through the Fee Filer Online System (Fee Filer), accessible at https://www.fcc.gov/licensing-databases/fees/fee-filer. As we assess and implement U.S. Treasury initiatives toward an all-electronic payment system, we may transition to other secure payment systems with appropriate public notice and guidance.

III. Ordering Clauses

9. Accordingly, it is ordered, that pursuant to sections 4(i), 4(j), 158, 208, and 224 of the Communications Act of 1934, as amended, 47 U.S.C. 154(i), 154(j), 158, 208, and 224, the Order is hereby adopted and the rules set forth in the Appendix of the Order are hereby amended effective March 26, 2021.

List of Subjects in 47 CFR Part 1

Administrative practice and procedure.

Marlene Dortch,
Secretary.

Editorial note: This document was received for publication by the Office of the Federal Register on January 4, 2021.

Final Rules

For the reasons discussed in the preamble, the Federal Communications Commission amends 47 CFR part 1 as follows:

PART 1—PRACTICE AND PROCEDURE

1. The authority citation for part 1 continues to read as follows:

Authority: 47 U.S.C. chs. 2, 5, 9, 13; 28 U.S.C. 2461, unless otherwise noted.

2. Amend § 1.1104 by revising the introductory text to read as follows:

§ 1.1104 Schedule of charges for applications and other filings for media services.

Remit payment for these services electronically using the Commission's electronic payment system in accordance with the procedures set forth on the Commission's website, www.fcc.gov/licensing-databases/fees. The asterisk (*) indicates that multiple stations and multiple fee submissions are acceptable within the same payment.

* * * * *

[FR Doc. 2021-00050 Filed 2-23-21; 8:45 am]

BILLING CODE 6712-01-P